DEPARTMENT OF THE INTERIOR

Bureau of Land Management

[212L1109AF LLUT920000 L13400000.KH0000]

Notice of Competitive Offer for Solar Energy Development on Public Lands in Beaver County, Utah

AGENCY: Bureau of Land Management, Interior.

ACTION: Notice.

SUMMARY: In accordance with the Federal Land Policy and Management Act of 1976, as amended, the Bureau of Land Management (BLM), Cedar City Field Office, Cedar City, Utah, will accept competitive bids to lease public lands for solar energy projects on approximately 4,836 acres within the Milford Flats South Solar Energy Zone in Beaver County, Utah. Notice is hereby given that the lands described below will be available through a competitive solar lease offer.

DATES: The competitive solar lease offer will be held at 1 p.m. on November 9, 2021. Sealed bids must be received by the BLM Cedar City Field Office on or before 10 a.m. MST on November 9, 2021.

ADDRESSES: Sealed bids may be mailed or hand delivered to the BLM Cedar City Field Office, Attention: Renewable Energy Department, 176 E. DL Sargent Drive, Cedar City, UT 84721. Electronic bid submissions will not be accepted.

FOR FURTHER INFORMATION CONTACT: Brooklynn Cox at (435) 865-3073 or bcox@blm.gov. Persons who use a telecommunications device for the deaf may call the Federal Relay Service (FRS) at 1-800-877-8339 to leave a message or question for the above individual. The FRS is available 24 hours a day, seven days a week. Replies are provided during normal business hours.

SUPPLEMENTARY INFORMATION: The BLM Cedar City Field Office has received interest to lease lands within the Milford Flats South Solar Energy Zone. The BLM will offer leases for solar energy development within the solar energy zone in accordance with the competitive process described in 43 CFR Subpart 2809.

Bidders may submit bids for each of the three parcels, consisting of approximately 4,836 acres of public land. All parcels lie within the Milford Flats South Solar Energy Zone, approximately five miles west of Minersville, Utah. The parcels being offered for competitive solar lease offer are described below:

Parcel A

Salt Lake Meridian, Utah

T. 30 S., R. 11 W.,

Sec. 7, lots 6 and 7;

Sec. 18, all that portion lying northwesterly of the apparent centerline of Skyline Road and lying southwesterly of the centerline of right-of-way UTU-74786.

The area described contains approximately 310 acres based on BLM geographic information system data.

Parcel B

Salt Lake Meridian, Utah

T. 30 S., R. 11 W.,

Sec. 7, lot 5, and all that portion of lot 8 lying northeasterly of the centerline of right-of-way UTU-74786;

Sec. 8, SW¼ and W½SE¼;

Sec. 17;

Sec. 18, all that portion lying southeasterly of the apparent centerline of Skyline Road, and all that portion lying northeasterly of the centerline of right-of-way UTU-74786;

Sec. 19, lots 2 and 5, NE¼, and E½NW¼;

Sec. 20, all that portion lying northerly of the northern bank of Minersville Canal;

Sec. 21, all that portion lying northerly of the northern bank of Minersville Canal.

The area described contains approximately 2,708 acres based on BLM geographic information system data.

Parcel C

Salt Lake Meridian, Utah

T. 30 S., R. 11 W.,

Sec. 10, E½, E½NW¼, and SW¼;

Sec. 14, all that portion lying northerly of the northern bank of Minersville Canal;

Sec. 15, all that portion lying northerly of the northern bank of Minersville Canal;

Sec. 22, all that portion lying northerly of the northern bank of Minersville Canal.

The area described contains approximately 1,818 acres based on BLM geographic information system data.

Detailed information about the Milford Flats South Solar Energy Zone, including maps, can be viewed and downloaded at: https://eplanning.blm.gov/eplanning-ui/project/97506. As provided for in 43 CFR 2809.13(a), a modified competitive bidding procedure will be used to offer leases within the Milford Flats South Solar Energy Zone. In consideration of the nominating party's financial contributions to the leasing effort and to incentivize development within the solar energy zone, the lease offer will be conducted by sealed bidding with the provision that any nominating party would have the option of meeting the high bid received on parcels that they have nominated.

To submit a bid, you must provide the bidder's name and personal or business address. Each bid can only contain the name of one bidder (i.e., citizen, association or partnership, corporation, or municipality). For your bid to receive consideration, you must submit a complete bid package, including a Technical and Financial Capability Certification, Sealed Bid Statement, payment for the minimum bid, and at least 20 percent of the bonus bid. All bidding documents must be enclosed in a sealed envelope with the bidder's name and return address on the outside. Include the following notation on the front lower left-hand corner of the sealed envelope: SEALED BID—DO NOT OPEN.

The BLM has determined a minimum bid for each parcel. The minimum bid represents 10 percent of the rent value of the land for one year ($67.58 per acre for Beaver County) under the BLM's solar rental schedule and is based on the interests acquired by a lessee in the solar energy zone. The minimum bid also includes an administrative fee of approximately $2.42 per acre to cover the BLM's costs of preparing for and conducting the competitive offer. Minimum bonus bids for the three parcels are: Parcel A—$2,845; Parcel B—$24,854; and Parcel C—$16,686. Bidders must use the Sealed Bid Statement to identify the bonus amount, if any, the bidder would pay above the minimum bid to acquire a lease for each parcel. Variable offsets to the final bonus bid payment, up to 20 percent, may be offered for bidders that meet any of the following criteria, each of which individually represents a potential five percent offset: (1) The bidder has submitted a nomination within the solar energy zone prior to this offer; (2) the bidder proposes to use photovoltaic technology for future development; (3) the bidder proposes to use a direct imbed, or other construction method, that will minimize surface disturbance; and (4) the bidder can show substantial progress toward securing a power purchase agreement and/or a large generator interconnect agreement. You must submit documentation regarding how you qualify for these variable offsets with your bid if you wish to receive consideration. The bidder with the highest total bid, prior to any variable offset, will be the successful bidder, subject to the provision for nominating party matching. The Sealed Bid Statement form, Technical and Financial Capability Certification form, and a complete description of the bid process are contained in an Invitation for Bids package available at the following location: https://eplanning.blm.gov/eplanning-ui/project/97506. All bidders will be notified within 10 calendar days after the bidding closes of whether they were the successful bidder. Nominating party(ies) will be notified and have the option of meeting the high bid within this 10-day timeframe.

If you are the successful bidder, you must then submit, within 15 calendar days after notification, the balance of the bonus bid (after approved variable offsets are applied), and the first 12 months acreage rent, to the BLM Cedar City Field Office. The BLM will offer you a right-of-way lease if you are the successful bidder and you: (1) Satisfy the qualifications in 43 CFR 2803.10; (2) make the required payments listed above; and (3) do not have any trespass action pending against you for any activity on BLM-administered lands or have any unpaid debts owed to the Federal Government. The BLM will not offer a lease to the successful bidder and will keep all money that has been submitted if the successful bidder does not satisfy these requirements. In that event, the BLM may offer the lease to the next highest bidder, or re-offer the lands through another competitive process, or make the lands available through the non-competitive application process found in 43 CFR 2803, 2804, and 2805.

The administrative fee portion of the minimum bid will be retained by the agency to recover administrative costs for conducting the competitive bid and related processes. The remainder of the minimum bid and bonus bid will be deposited with the U.S. Treasury. Neither amount will be returned or refunded to the successful bidder(s) under any circumstance. If you are not the successful bidder as defined in 43 CFR 2809.15(a), the BLM will return or refund the total bid amount submitted with your bid.

Any required payments submitted must be made by personal check, cashier's check, certified check, bank draft, money order, or by other means deemed acceptable by the BLM, payable to the Department of the Interior—Bureau of Land Management.

In the case of tied bids, the BLM may re-offer the lands competitively to the tied bidders, or to all prospective bidders. If there is no bid received for a parcel, then no lease will be issued and the BLM may choose to make the lands available through the non-competitive application process found in 43 CFR 2803, 2804, and 2805, or make the land available at a later date by competitive process.

Any lease issued will be subject to the terms and conditions specified in 43 CFR 2809.18, and the following design features, mitigation measures and stipulations:

(1) The leaseholder will be required to incorporate design features into the project plan of development to avoid and minimize impacts to the surrounding environment. Design features that cover possible site-specific resource conflicts are included in the Decision Record for Milford Flats South Solar Energy Zone Leasing Environmental Assessment (DOI-BLM-UT-C010-2018-0042-EA). In accordance with the design features and other requirements, the leaseholder will prepare the following management plans, if applicable, and submit them to the BLM as part of their plan of development for approval, following the issuance of a right-of-way lease for the project and prior to the BLM issuing a Notice to Proceed with construction:

• Bird and Bat Conservation Strategy

• Decommissioning and Site Reclamation Plan

• Dust Abatement Plan

• Spill Prevention and Emergency Response Plan

• Hazardous Materials and Waste Management Plan

• Health and Safety Program

• Groundwater Monitoring and Reporting Plan

• Fire Management Plan

• Lighting Management Plan

• Integrated Weed Management Plan

• Raven Management Plan

• Site Rehabilitation and Restoration Plan

• Stormwater Pollution Prevention Plan

• Site Drainage Plan

• Traffic Management Plan

• Surface Water Quality Management Plan

• Worker Education and Awareness Plan

(2) The leaseholder will comply with all relevant protective measures and design features established in the Approved Resource Management Plan Amendment/Record of Decision for Solar Development in Six Southwestern States signed on October 12, 2012.

(3) A Class III cultural survey will be required prior to any ground disturbing activities. All historic properties found will be avoided or mitigated in consultation with State Historic Preservation Office.

(4) Any mitigation resulting from an adverse effect to historic properties will be addressed through a Memorandum of Agreement as outlined in the Programmatic Agreement for the Approved Resource Management Plan Amendment/Record of Decision for Solar Development in Six Southwestern States.

(5) Appropriate protection measures will be applied to existing improvements (e.g., canals and access to private lands) and rights-of-way within the solar energy zone and adjacent to other ancillary facilities (e.g., gen-tie line(s) and substation) required for development of any leased parcels.

(6) The leaseholder will compensate the grazing permittees for any range improvements affected or lost by solar lease operations.

(7) The leaseholder will construct new fences that will continue to keep the allotments and pastures separated as needed to mitigate for the removal of allotment and pasture fences.

(8) Rights-of-way for livestock grazing driveways may be granted through solar lease parcels if requested by grazing permittees.

(9) Any plan of development submitted will address mitigation and compensation strategies for impacts to livestock grazing, and any agreement with the affected grazing permittee addressing these mitigation and compensation strategies will be submitted to the BLM concurrent with the plan of development prior to the BLM authorizing a Notice to Proceed with construction.

(10) Ground-level survey wildlife clearances will be conducted for sensitive species prior to surface disturbing activities proposed during the specified date ranges below. Surveys for sensitive species will be conducted by qualified biologists, and appropriate best management practices, including spatial buffers specified below, or mitigation will be applied prior to project implementation. Nest buffers may be lifted if surveys confirm a nest is not occupied.

Species | Stipulation
Dark Kangaroo Mouse | Avoid occupied habitat by 330 feet year-round or mitigate impacts.
Kit Fox | Avoid occupied burrows by 330 feet year-round or mitigate impacts.
Pygmy Rabbit | Avoid occupied habitat by 330 feet year-round or mitigate impacts.
Bald Eagle | 1.0-mile nest buffer. Avoid area from 1/1-8/31.
Brewer's Sparrow | 100-foot nest buffer. Avoid area from 4/1-7/31.
Burrowing Owl | 0.25-mile nest buffer. Avoid area from 3/1-8/31.
Ferruginous Hawk | 0.25-mile nest buffer. Avoid area from 3/1-8/1.
Golden Eagle | 0.5-mile nest buffer. Avoid area from 3/1-8/1.
Long-billed Curlew | 100-foot nest buffer. Avoid area from 4/1-7/31.
Sage Thrasher | 100-foot nest buffer. Avoid area from 4/1-7/31.
Short-eared Owl | 0.25-mile nest buffer. Avoid area from 3/1-8/1.

(11) Construction will occur outside of the migratory bird breeding season (April 1-July 31). If seasonal avoidance is not feasible, nest surveys will be conducted by a qualified biologist and appropriate spatial buffers enacted at a species-specific level. Buffers may be lifted if surveys confirm a nest is not occupied.

(12) If an area is determined to be occupied greater sage-grouse habitat after ground level surveys are completed, mitigation will be considered in conformance with the current BLM greater sage-grouse plans and policy. Anthropogenic actions associated with development of the solar energy zone may need to be avoided during greater sage-grouse brood rearing season (April 15-August 15) if it is shown that those actions will affect brood rearing activities in the area as determined by a qualified biologist.

(13) The developer will be required to coordinate and confirm any stream alteration or Section 404 permitting requirements through the appropriate State or Federal agency with jurisdiction.

Authority: 43 CFR 2803, 2804, 2805, and 2809.

Gregory Sheehan,
Bureau of Land Management, State Director, Utah.

[FR Doc. 2021-19555 Filed 9-9-21; 8:45 am]

BILLING CODE 4310-DQ-P